DEPARTMENT OF COMMERCE

Patent and Trademark Office

[Docket No.: PTO-P-2023-0047]

Supplemental Guidance for Examination of Design Patent Applications Related to Computer-Generated Electronic Images, Including Computer-Generated Icons and Graphical User Interfaces

AGENCY: Patent and Trademark Office, Commerce.

ACTION: Examination guidance; correction.

SUMMARY: The United States Patent and Trademark Office (USPTO) published in the Federal Register on November 17, 2023, supplemental guidance to be used by USPTO personnel in determining whether a design claim including a computer-generated electronic image is directed to statutory subject matter. This notice provides the deadline for written comments. Additionally, the USPTO has corrected Examples 2, 4, and 5 in Section (V) of the supplemental guidance published in the Federal Register to reflect certain formatting (i.e., underlining and strikethrough) necessary to understand the examples. The supplemental guidance, including the examples, will be incorporated into the Manual of Patent Examining Procedure in due course.

FOR FURTHER INFORMATION CONTACT: Erin Harriman, Senior Legal Advisor, Office of Patent Legal Administration, at 571-272-7747; or Carolyn Kosowski, Senior Legal Advisor, Office of Patent Legal Administration, at 571-272-7688.

SUPPLEMENTARY INFORMATION: The USPTO published in the Federal Register on November 17, 2023, supplemental guidance to be used by USPTO personnel in determining whether a design claim including a computer-generated electronic image is directed to statutory subject matter. See Supplemental Guidance for Examination of Design Patent Applications Related to Computer-Generated Electronic Images, Including Computer-Generated Icons and Graphical User Interfaces, 88 FR 80277. This notice provides the deadline for submitting written comments through the Federal eRulemaking Portal at www.regulations.gov. The deadline for submitting comments is November 18, 2024. Please see the ADDRESSES section in the November 17, 2023 notice for instructions on how to submit comments.

Correction

In the Federal Register of November 17, 2023, in FR Doc. 2023-25473, on page 80277, in the third column, correct the DATES caption to read:

DATES: This supplemental guidance is applicable as of November 17, 2023. Comments must be received by November 18, 2024, to ensure consideration.

In addition, the USPTO has corrected Examples 2, 4, and 5 in Section (V) of the supplemental guidance published in the Federal Register to reproduce certain formatting (i.e., underlining and strikethrough) in the text necessary to understand the examples. A PDF version of the examples, which contains the formatting, has been posted on the Examination Guidance and Training Materials page under 35 U.S.C. 171 at www.uspto.gov/patents/laws/examination-policy/examination-guidance-and-training-materials.

The supplemental guidance, including the examples, will be incorporated into the Manual of Patent Examining Procedure in due course.

Katherine Kelly Vidal,
Under Secretary of Commerce for Intellectual Property and Director of the United States Patent and Trademark Office.

[FR Doc. 2024-01717 Filed 1-26-24; 8:45 am]

BILLING CODE 3510-16-P